DEPARTMENT OF VETERANS AFFAIRS

Veterans and Community Oversight and Engagement Board, Notice of Meeting

The Department of Veterans Affairs (VA) gives notice under the Federal Advisory Committee Act the Veterans and Community Oversight and Engagement Board will meet on June 13-14, 2018. Details on times and locations for meetings are contained below. The meetings are open to the public.

The Board is and was established by the West Los Angeles Leasing Act of 2016 on September 29, 2016. The purpose of the Board is to provide advice and make recommendations to the Secretary of Veterans Affairs on: Identifying the goals of the community and Veteran partnership; improving services and outcomes for Veterans, members of the Armed Forces, and the families of such Veterans and members; and on the implementation of the Draft Master Plan approved by the Secretary on January 28, 2016, and on the creation and implementation of any successor master plans.

On Wednesday, June 13, 2018, the Board will convene an open session at 11301 Wilshire Boulevard, Los Angeles, CA, Building 500, Room 1281 from 8:00 a.m. to 12:45 p.m. The agenda will include briefings from senior VA officials, and information briefings from the Greater Los Angeles Draft Master Plan Integrated Project Team. At 12:45, the Board members will be transported to downtown Los Angeles to conduct a site visit to Skid Row from 2:00 p.m.-3:00 p.m., where members will be engaging homeless veterans to gain insights from the large homeless population. The first of two public comment sessions will occur at the Bob Hope Patriotic Hall at 1816 South Figueroa Street, Los Angeles, CA 90015 from 3:30 p.m.-4:30 p.m.

On Thursday, June 14, 2018, the Board will convene an open session at 11301 Wilshire Boulevard, Los Angeles, CA, Building 500, Room 1281 from 10:00 a.m. to 7:15 p.m. The Board will conduct synthesis and discussions of the previous days site visit and public comment session. The Board's subcommittees on Outreach and Community Engagement, Services and Outcomes, and Master Plan will report out on activities since the last meeting, and progress on draft recommendations considered for forwarding to the SECVA. The second of two public comment sessions will be conducted at 11301 Wilshire Boulevard, Los Angeles, CA, Building 500, Room 1281 from 4:30 p.m.-6:00 p.m.

Individuals wishing to make public comments at either session should contact Ms. Toni Bush Neal at Toni.BushNeal@va.gov and are requested to submit a 1-2-page summary of their comments for inclusion in the official meeting record. In the interest of time, each speaker will be held to a 5-minute time limit.

Any member of the public seeking additional information should contact Ms. Bush Neal at (215) 292-9790 or at Toni.BushNeal@va.gov.

Dated: May 18, 2018.
Jelessa M. Burney,
Federal Advisory Committee Management Officer.

[FR Doc. 2018-10991 Filed 5-22-18; 8:45 am]

BILLING CODE P